DEPARTMENT OF LABOR

Occupational Safety and Health Administration

Agency Information Collection Activity; Announcement of Office of Management and Budget (OMB) Control Number Under the Paperwork Reduction Act

AGENCY: Occupational Safety and Health Administration (OSHA), Labor.

ACTION: Notice; announcement of OMB approval of an information collection requirement.

SUMMARY: The Occupational Safety and Health Administration (OSHA) announces that the Office of Management and Budget (OMB) has extended its approval of a collection of information regarding occupational injuries and illnesses. OSHA sought approval under the Paperwork Reduction Act of 1995 (PRA-95), and, as required by that Act, is announcing the approval number and expiration date for this requirement.

DATES: Effective Date: This notice is effective March 25, 2008.

FOR FURTHER INFORMATION CONTACT: Joseph J. Dubois, Office of Statistical Analysis, Occupational Safety and Health Administration, U.S. Department of Labor, Room N-3507, 200 Constitution Avenue, NW., Washington, DC 20210, telephone: (202) 693-1875.

SUPPLEMENTARY INFORMATION: In the Federal Register of October 23, 2007 (72 FR 60028), the Agency announced its intent to request an extension of approval for 29 CFR Part 1904, Recording and Reporting Occupational Injuries and Illnesses. The Agency provided a 60-day comment period for the public to respond to OSHA's burden hour and cost estimates.

In accordance with PRA-95 (44 U.S.C. 3501-3520), OMB renewed its approval for the information collection requirement and assigned OMB control number 1218-0176. The approval expires on March 31, 2011.

In accordance with 5 CFR 1320.5(b), an agency cannot conduct, sponsor, or require a response to a collection of information unless the collection displays a valid OMB control number and the agency informs respondents that they are not required to respond to the collection of information unless it displays a currently valid OMB control number.

Authority and Signature

Edwin G. Foulke, Jr., Assistant Secretary of Labor for Occupational Safety and Health, directed the preparation of this notice. The authority for this notice is the Paperwork Reduction Act of 1995 (44 U.S.C. 3506 et seq.), and Secretary of Labor's Order No. 5-2007 (72 FR 31159).

Signed at Washington, DC, on March 20, 2008.
Edwin G. Foulke, Jr.,
Assistant Secretary of Labor for Occupational Safety and Health.

[FR Doc. E8-5989 Filed 3-24-08; 8:45 am]

BILLING CODE 4510-26-P